DEPARTMENT OF LABOR

Employment and Training Administration

[TA-W-65,259]

Chemical Coatings, Incorporated, Hudson, NC; Notice of Termination of Investigation

Pursuant to Section 221 of the Trade Act of 1974, as amended, an investigation was initiated on February 17, 2009 in response to a petition filed by company official on behalf of workers of Chemical Coatings, Incorporated, Hudson, North Carolina.

The petitioner has requested that the petition be withdrawn. Therefore, the investigation under this petition has been terminated.

Signed at Washington, DC, this 24th day of March, 2009.
Linda G. Poole,
Certifying Officer, Division of Trade Adjustment Assistance.

[FR Doc. E9-8282 Filed 4-10-09; 8:45 am]

BILLING CODE 4510-FN-P